FEDERAL COMMUNICATIONS COMMISSION

[OMB 3060-1222; FR ID 304883]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might further reduce the information collection burden for small business concerns with fewer than 25 employees.

The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before August 25, 2025.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might further reduce the information collection burden for small business concerns with fewer than 25 employees.

OMB Control Number: 3060-1222.

Title: Incarcerated People's Communications Services (IPCS) Provider Annual Reporting, Certification, and Other Requirements, WC Docket Nos. 23-62, 12-375.

Form Number(s): FCC Form 2301(a) and FCC Form 2301(b).

Type of Review: Revision of a currently approved collection.

Respondents: Business or other for-profit.

Number of Respondents and Responses: 35 respondents; 38 responses.

Estimated Time per Response: 5 hours-240 hours.

Frequency of Response: Annual reporting and certification requirements, third party disclosure, waiver request, and on-occasion reporting requirements.

Obligation to Respond: Mandatory. Statutory authority for this collection of information is contained in sections 1, 2, 4(i)-(j), 5(c), 201(b), 218, 220, 225, 255, 276, 403, and 716 of the Communications Act of 1934, as amended, 47 U.S.C. 151, 152, 154(i)-(j), 155(c), 201(b), 218, 220, 225, 255, 276, 403, and 617, and the Martha Wright-Reed Just and Reasonable Communications Act of 2022, Public Law 117-338, 136 Stat. 6156 (2022).

Total Annual Burden: 9,165 hours.

Total Annual Cost: No cost.

Needs and Uses: The Commission requires incarcerated people's communications services (IPCS) providers to file Annual Reports, which enable the Commission and the public to monitor pricing practices and trends in the IPCS marketplace generally. In 2015, pursuant to delegated authority, the Commission's Wireline Competition Bureau (WCB) created a standardized reporting template for the Annual Reports (FCC Form 2301(a)) and a related certification form (FCC Form 2301(b)), as well as instructions to guide providers through the reporting and certification process. See Rates for Interstate Inmate Calling Services, WC Docket No. 12-375, Second Report and Order and Third Notice of Proposed Rulemaking, 80 FR 79136 (Dec. 18, 2015) (2015 ICS Order). WCB first amended the instructions, reporting templates, and certification form in 2020 in order to improve the type and quality of the information collected. In 2022, WCB again amended the instructions, reporting template, and certification form to reflect reforms the Commission had adopted in 2021.

Subsequent developments generated additional changes to the instructions, reporting template, and certification form. First, in September 2022, the Commission adopted the 2022 ICS Order, which included requirements to improve access to communications services for incarcerated people with communication disabilities, expanded the scope of the Annual Reports to reflect those new requirements, and delegated authority to WCB and the Consumer and Governmental Affairs Bureau (collectively, the Bureaus) to implement the expanded reporting obligations. Rates for Interstate Inmate Calling Services, WC Docket No. 12-375, Fourth Report and Order and Sixth Further Notice of Proposed Rulemaking, 87 FR 75496, (Dec. 9, 2022) (2022 ICS Order).

Second, on January 5, 2023, President Biden signed into law the Martha Wright-Reed Just and Reasonable Communications Act of 2022, Public Law 117-338, Stat. 6156, § 2(a)(2), (b) (the Martha Wright-Reed Act or the Act), which expanded the Commission's statutory authority over communications between incarcerated people and the non-incarcerated, including “any audio or video communications service used by inmates . . . regardless of technology used.” The new Act also amended section 2(b) of the Communications Act of 1934, as amended, to make clear that the Commission's authority extends to intrastate as well as interstate and international communications services used by incarcerated people.

The Martha Wright-Reed Act directed the Commission to “promulgate any regulations necessary to implement” the Act, including its mandate that the Commission establish a “compensation plan” ensuring that all rates and charges for IPCS “are just and reasonable,” not earlier than 18 months and not later than 24 months after the Act's January 5, 2023 enactment date. Pursuant to that directive, the Commission adopted the 2023 IPCS Notice, seeking comment on how to interpret the Act's language to ensure that the Commission implemented the statute in a manner that fulfilled Congress's directives. Incarcerated People's Communications Services; Implementation of the Martha-Wright Reed Act; Rates for Interstate Inmate Calling Services, WC Docket Nos. 23-62, 12-375, Notice of Proposed Rulemaking and Order, 88 FR 20804 (Apr. 7, 2023) (2023 IPCS Notice). The Commission also adopted the 2023 IPCS Order, in which it reaffirmed and updated its prior delegation of authority to the Bureaus to modify, supplement, and update the instructions and templates for the Annual Reports. Incarcerated People's Communications Services; Implementation of the Martha-Wright Reed Act; Rates for Interstate Inmate Calling Services, WC Docket Nos. 23-62, 12-375, Notice of Proposed Rulemaking and Order, 88 FR 19001 (Mar. 30, 2023) (2023 IPCS Order).

On August 3, 2023, the Bureaus released a Public Notice, seeking comment on proposed revisions to the instructions and templates for the Annual Reports and annual certifications. Wireline Competition Bureau and Consumer and Governmental Affairs Bureau Seek Comment on Revisions to Providers' Annual Reporting and Certification Requirements, WC Docket Nos. 23-62 and 12-375, Public Notice, 38 FCC Rcd 6732 (WCB/CGB 2023) (August 3, 2023 Public Notice). On August 10, 2023, the Commission published a 60-Day Notice in the Federal Register, seeking public comment on the paperwork burdens associated with the proposed revisions. Incarcerated People's Communications Services (IPCS) Provider Annual Reporting, Certification, and Other Requirements, WC Docket Nos. 23-62, 12-375, Public Notice, 88 FR 54318 (Aug. 10, 2023). Subsequently, the Commission decided to delay seeking OMB approval of these revisions because it had not yet amended its rules to implement the expanded authority granted by the Martha Wright-Reed Act and because an Order adopting specific revisions to the annual reporting instructions, templates, and certification form had not yet been adopted.

In July 2024, the Commission adopted the 2024 IPCS Order, which implemented the expanded authority granted to the Commission by the Martha Wright-Reed Act. Incarcerated People's Communications Services; Implementation of the Martha Wright-Reed Act; Rates for Interstate Inmate Calling Services, WC Docket Nos. 23-62, 12-375, Report and Order, Order on Reconsideration, Clarification and Waiver, and Further Notice of Proposed Rulemaking, 89 FR 77244 (Sept. 20, 2024) (2024 IPCS Order). In that Order, the Commission revised its rules by, inter alia, adopting permanent rate caps for audio IPCS and interim rate caps for video IPCS; adopting new facility tiers for both audio and video IPCS; prohibiting providers from imposing any ancillary service charges on IPCS consumers; and prohibiting providers from making site commission payments associated with IPCS. In the 2024 IPCS Order, the Commission also modified the scope and content of the annual reporting requirements to reflect the reforms adopted under the Martha Wright-Reed Act. The Commission expanded its annual reporting and certification requirements to include the full scope of services and providers now subject to the IPCS rules, as it had proposed in the August 3, 2023 Public Notice. The Commission also largely eliminated the sections of the annual reporting rules mandating the reporting of information on ancillary service charges and site commissions, to reflect the prohibitions of those items adopted in the 2024 IPCS Order. Finally, the Commission reaffirmed and updated its prior delegation of authority to the Bureaus to revise the requirements for the Annual Reports, to reflect the Commission's expanded authority under the Martha Wright-Reed Act and the other actions taken in the 2024 IPCS Order, and directed the Bureaus to pay particular attention to the video IPCS marketplace and the availability and usage of telecommunications relay service (TRS) in exercising this delegated authority.

Pursuant to this updated delegated authority, on September 11, 2024, the Bureaus released a Public Notice seeking to “expand and refresh the record on revisions to the Annual Reports instructions, templates, and certification form, in addition to those proposed in the August 3, 2023 Public Notice, and to implement the modifications to the annual reporting and certification requirements adopted by the Commission in the 2024 IPCS Order.” Incarcerated People's Communications Services; Implementation of the Martha Wright-Reed Act; Rates for Interstate Inmate Calling Services, WC Docket Nos. 23-62 and 12-375, Public Notice, 89 FR 80449 (Oct. 3, 2024) (September 11, 2024 Public Notice). The Bureaus also sought comment on any additional modifications they should consider to make these forms consistent with the new rules, including the varied compliance dates adopted in the 2024 IPCS Order for the Commission's rate cap and site commission reforms. The Bureaus received comments from IPCS providers and public interest advocates.

On January 8, 2025, the Bureaus released an Order in which they revised the instructions, reporting templates, and certification form for the Annual Reports that IPCS providers are required to submit. Incarcerated People's Communications Services; Implementation of the Martha Wright-Reed Act; Rates for Interstate Inmate Calling Services, WC Docket Nos. 23-62, 12-375, Order, 90 FR 11804 (Mar. 12, 2025). These revisions reflect the Commission's expanded authority under the Martha Wright-Reed Act, as well as the proposals contained in the August 3, 2023 Public Notice and September 11, 2024 Public Notice, and the reporting requirements proposed in the August 3, 2023 Public Notice regarding access to IPCS by persons with communication disabilities, including access to TRS. Significantly, the revisions greatly streamline and simplify much of the rate reporting that had been proposed in the August 3, 2023 Public Notice and eliminate most of the reporting of site commission and ancillary service charge data that had been proposed in that Notice.

With this Notice, we seek comment on the paperwork burdens associated with the specific revisions to the instructions, reporting templates, and certification form adopted in the 2025 Annual Reports Order.

We note that on April 1, 2025, the Commission submitted for OMB review proposed revisions to this collection associated with the rules, other than the Annual Reports rule, that the Commission adopted in the 2024 IPCS Order. See Information Collections Being Submitted for Review and Approval to the Office of Management and Budget, 90 FR 14370 (Apr. 1, 2025). On July 8, 2025, the Commission withdrew that request for OMB review. See Incarcerated People's Communications Services (IPCS) Provider Annual Reporting, Certification, and Other Requirements, WC Docket Nos. 23-62, 12-375, OMB Control No. 3060-1222, Notice of Action (July 8, 2025). https://www.reginfo.gov/public/do/PRAViewICR?ref_nbr=202503-3060-020.

Federal Communications Commission.
Marlene Dortch,
Secretary, Office of the Secretary.

[FR Doc. 2025-14092 Filed 7-24-25; 8:45 am]

BILLING CODE 6712-01-P